DEPARTMENT OF TRANSPORTATION

Federal Highway Administration

Supplemental Environmental Impact Statement: U.S. Route 121, Section II, Wise, Dickenson, and Buchanan Counties, Virginia

AGENCY: Federal Highway Administration (FHWA), DOT.

ACTION: Notice of Intent to Prepare a Supplemental Environmental Impact Statement.

SUMMARY: The Federal Highway Administration is issuing this notice to advise the public of its intent to prepare a Supplemental Environmental Impact Statement (SEIS), in cooperation with the Virginia Department of Transportation, for Section II of the proposed U.S. Route 121 (previously known as the Coalfields Expressway) in Wise, Dickenson, and Buchanan Counties, Virginia. The SEIS will evaluate an alternative that was not fully evaluated in the Final Environmental Impact Statement that was approved by FHWA in 2001.

FOR FURTHER INFORMATION CONTACT: John Simkins, Planning and Environment Team Leader, Federal Highway Administration, Post Office Box 10249, Richmond, Virginia 23240; email: John.Simkins@dot.gov; telephone: (804) 775-3347.

DATES: Submit comments on or before September 22, 2014.

SUPPLEMENTARY INFORMATION: 1. Description of Proposed Action and Background: The Virginia Department of Transportation (VDOT) proposes to construct Section II of U.S. Route 121, a limited access roadway on new location for approximately 26 miles, which would be located to the north of and roughly parallel to Virginia Route 83 (VA 83) between the Town of Pound and the U.S. Route 460 Connector in Buchanan County.

The Federal Highway Administration (FHWA) approved a Final Environmental Impact Statement (FEIS) in September 2001 and issued a Record of Decision (ROD) in November 2001 for the Coalfields Expressway Location Study, which evaluated alternative corridors for the new roadway, now designated as U.S. Route 121. The FEIS covered the full 59 miles of the proposed roadway in Virginia from U.S. Route 23 at the Town of Pound to VA Route 83 at the West Virginia state line. The ROD identified Alternative F1 as the selected alternative, and it also indicated that the project would be designed and constructed in numerous phases.

In June 2012, FHWA approved for public availability an Environmental Assessment (EA) for Section II of the Coalfields Expressway/U.S. Route 121 that evaluated an alternative that was not fully evaluated in the 2001 FEIS. The EA can be accessed at: http://www.virginiadot.org/projects/resources/Bristol/CFX_SectionII_Environmental_Assessment_June2012.pdf. In August 2012, public hearings were held to present the findings of the environmental studies and to receive comments on the EA. A large volume of comments were received on the EA, some which suggested the preparation of a Supplemental Environmental Impact Statement (SEIS). FHWA subsequently determined that a SEIS is necessary for Section II.

2. Scope of the SEIS: The scope of the SEIS will be informed by the information in the EA and the comments received on the EA. In accordance with 23 CFR 771.130 and FHWA's Technical Advisory T6640.8A (available at http://environment.fhwa.dot.gov/projdev/impta6640.asp), the SEIS will address the changes or new information that are the basis for preparing the SEIS and were not addressed in the FEIS, and will also summarize unchanged, but still valid, portions of the FEIS. The basis for preparing the SEIS is that the alternative that was not fully evaluated in the FEIS is likely to cause significant impacts on the environment; therefore, a primary focus of the SEIS will be the evaluation of that alternative.

3. Public Review of SEIS: Notification of the availability of the Draft SEIS for public and agency review will be made in the Federal Register and using other methods. Those methods will identify where interested parties can go to review a copy of the Draft SEIS. Public meetings will be held after the approval of the Draft SEIS and a 45-day comment period will be provided on the document. The Draft SEIS will be available for review at least 15 days prior to the public meetings. VDOT will provide information regarding the public meetings, including date, time and location through a variety of means including VDOT's Internet site (http://www.virginiadot.org/projects/publicinvolvement.asp) and by newspaper advertisement.

(Catalog of Federal Domestic Assistance Program Number 20.205, Highway Planning and Construction. The regulations implementing Executive Order 12372 regarding intergovernmental consultation on Federal programs and activities apply to this program.)

Authority: 23 U.S.C. 315; 49 CFR 1.48.

Issued on: August 15, 2014.
John Simkins,
Planning and Environment Team Leader.

[FR Doc. 2014-19897 Filed 8-20-14; 8:45 am]

BILLING CODE 4910-22-P